DEPARTMENT OF ENERGY

Federal Energy Regulatory Commission

[Project No. 14145-000]

Pacific Green Power, LLC; Notice Of Preliminary Permit Application Accepted for Filing and Soliciting Comments, Motions To Intervene, and Competing Applications

On April 1, 2011, Pacific Green Power, LLC filed an application for a preliminary permit, pursuant to section 4(f) of the Federal Power Act (FPA), proposing to study the feasibility of the Two Girls Creek Hydroelectric Project (Two Girls Creek Project or project) to be located on Two Girls Creek, near Sweet Home, Linn County, Oregon. The project would occupy in part lands managed by the U.S. Forest Service as part of the Willamette National Forest. The sole purpose of a preliminary permit, if issued, is to grant the permit holder priority to file a license application during the permit term. A preliminary permit does not authorize the permit holder to perform any land-disturbing activities or otherwise enter upon lands or waters owned by others without the owners' express permission.

The proposed project would consist of the following: (1) A new 9.5-foot-high, 60-foot-long concrete weir impounding a 6,000-square-foot reservoir with a storage capacity of 1.2 acre-feet; (2) a new 19,365-foot-long buried penstock made up of 30-inch-diameter steel pipe and 36-inch-diameter high-density polyethylene (HDPE) pipe; (3) a new 30-foot by 40-foot concrete block powerhouse containing one Pelton turbine and generator with a capacity of 5.0 megawatts; (4) a new 40-foot-long, 42-inch-diameter HDPE tailrace returning flows to Two Girls Creek above a natural fish barrier; and (5) a new 12-kilovolt, 7.2-mile-long transmission line. The estimated annual generation would be 36.87 gigawatt-hours.

Applicant Contact: Mr. David G. Harmon, P.E., Pacific Green Power, LLC, P.O. Box 44, Sweet Home, Oregon 97386; phone: (541) 405-5236.

FERC Contact: Dianne Rodman; phone: (202) 502-6077.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-14145-000) in the docket number field to access the document. For assistance, contact FERC Online Support.

Dated: July 5, 2011.
Kimberly D. Bose,
Secretary.

[FR Doc. 2011-17288 Filed 7-8-11; 8:45 am]

BILLING CODE 6717-01-P